SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before November 20, 2015.

ADDRESSES: Send all comments to Daniel Upham, Chief, Microenterprise Development Division, Office of Capital Access, Small Business Administration, 409 3rd Street, 8th Floor, Washington, DC 20416.

FOR FURTHER INFORMATION CONTACT: Daniel Upham, Chief, Microenterprise Development Division, 202-205-7001, Daniel.upham@sba.gov, or Curtis B. Rich, Management Analyst, 202-205-7030, curtis.rich@sba.gov.

SUPPLEMENTARY INFORMATION: The Microenterprise Development Division holds a national training conference every two years for intermediary lenders participating in the Microloan Program to ensure that intermediaries have the knowledge, skills and understanding of microlending practice necessary to operate successful microloan programs. At the conclusion of the training conference, SBA desires feedback in the form of a survey to allow future improvements to training materials and presentation techniques.

(a) Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

(b) Summary of Information Collection

Title: SBA Microenterprise Development Division Post-Conference Survey Questions.

Description of Respondents: SBA Microloan Program Intermediary Lenders.

SBA Form Number: Not Yet Assigned.

Total Estimated Annual Responses: 150.

Total Estimated Annual Hour Burden: 25.

Curtis B. Rich, Sr.,
Management Analyst.

[FR Doc. 2015-23602 Filed 9-18-15; 8:45 am]

BILLING CODE 8025-01-P